CONSUMER PRODUCT SAFETY COMMISSION

Sunshine Act Meeting Notice

TIME AND DATE: Wednesday, January 18, 2017; 10:00 a.m.-11:30 a.m.

PLACE: Hearing Room 420, Bethesda Towers, 4330 East West Highway, Bethesda, Maryland.

STATUS: Closed to the Public.

Matter To Be Considered: Compliance Matters: The Commission staff will brief the Commission on the status of various compliance matters.

CONTACT PERSON FOR MORE INFORMATION: Todd A. Stevenson, Office of the Secretary, U.S. Consumer Product Safety Commission, 4330 East West Highway, Bethesda, MD 20814, (301) 504-7923.

Dated: January 10, 2017.
Todd A Stevenson,
Secretary.

[FR Doc. 2017-00799 Filed 1-11-17; 11:15 am]

BILLING CODE 6355-01-P